ENVIRONMENTAL PROTECTION AGENCY

[ER-FRL-8993-8]

Environmental Impact Statements; Notice of Availability

Responsible Agency: Office of Federal Activities, General Information (202) 564-1399 or http://www.epa.gov/compliance/nepa/.

Weekly receipt of Environmental Impact Statements

Filed 11/15/2010 Through 11/19/2010.

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100449, Draft EIS, USFS, MT, Stillwater Mining Revised Water Management Plans and BOE Ranch LAD, Implementation, Stillwater and Nye Counties, MT, Comment Period Ends: 01/10/2011, Contact: Patrick Pierson 406-657-6200 Ext. 213.

EIS No. 20100450, Draft EIS, USFS, ID, Upper Lochsa Land Exchange Project, Proposes to Exchange National Forest System Land for approximately 39,371 Acres of western Pacific Timber Land, Federal Land Exchange, Clearwater, Nez Perce and Idaho Panhandle National Forests, Clearwater, Latah, Idaho, Benewah, Kootenai and Bonner Counties, ID, Comment Period Ends: 02/23/2011, Contact: Teresa Trulock 208-935-4256.

EIS No. 20100451, Final EIS, USN, ME, Brunswick Naval Air Station, Disposal and Reuse, Implementation, Brunswick, ME, Wait Period Ends: 12/27/2010, Contact: Thomas Stephan 215-897-4916.

EIS No. 20100452, Final Supplement, TPT, CA, Presidio Trust Management Plan (PTMP), Updated Information on the Preferred Alternative for the Main Post District of the Presidio of San Francisco, Implementation, City and County of San Francisco, CA, Wait Period Ends: 12/27/2010, Contact: John G. Pelka 415-561-5356.

EIS No. 20100453, Draft EIS, USACE, 00, Savannah Harbor Expansion Project, Navigation Improvement to the Federal Navigation Channel, Chatham County, GA and Jasper County, SC, Comment Period Ends: 01/10/2011, Contact: William G. Bailey 912-652-5781.

EIS No. 20100454, Final EIS, USAF, AZ, Barry M. Goldwater Ranger East Range Enhancements, Proposes to Take Ten Different Actions would Enhance Range Operations and Training, Yuma, Pima and Maricopa Counties, AZ, Wait Period Ends: 12/27/2010, Contact: Lisa McCarrick 623-856-9475.

Amended Notices

EIS No. 20100349, Draft Supplement, FHWA, WI, Wisconsin Highway Project, Mobility Motorized and Nonmotorized Travel Enhancements, Updated Information on New Alternatives, and Evaluates a Staged Improvement, US18/151 (Verona Road) and the US 12/14 (Beltine) Corridors, Dane County, WI, Comment Period Ends: 12/17/2010, Contact: Johnny Gerbitz 608-829-7500; Revision to FR Notice Published 09/03/2010: Extending Comment Period from 10/29/2010 to 12/17/2010.

Dated: November 22, 2010.
Robert W. Hargrove,
Director, NEPA Compliance Division, Office of Federal Activities.

[FR Doc. 2010-29827 Filed 11-24-10; 8:45 am]

BILLING CODE 6560-50-P